DEPARTMENT OF TRANSPORTATION

Federal Aviation Administration

14 CFR Part 71

Docket No. FAA-2013-0457; Airspace Docket No. 13-AWP-5

Establishment and Modification of Class E Airspace; Oakland, CA

AGENCY: Federal Aviation Administration (FAA), DOT.

ACTION: Final rule.

SUMMARY: This action establishes Class E airspace at Metropolitan Oakland International Airport, Oakland, CA, to accommodate aircraft using the Area Navigation (RNAV) Global Positioning System (GPS) standard instrument approach procedures at Metropolitan Oakland International Airport. This action also modifies Class E surface airspace designated as an extension to Class C airspace by removing the navigation aids from the airspace designation. This improves the safety and management of Instrument Flight Rules (IFR) operations at the airport.

DATES: Effective date, 0901 UTC, December 12, 2013. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On July 3, 2013, the FAA published in the Federal Register a notice of proposed rulemaking (NPRM) to establish and modify controlled airspace at Oakland, CA (78 FR 40076). Interested parties were invited to participate in this rulemaking effort by submitting written comments on the proposal to the FAA. No comments were received.

Class E airspace designations are published in paragraphs 6003 and 6005, respectively, of FAA Order 7400.9X dated August 7, 2013, and effective September 15, 2013, which is incorporated by reference in 14 CFR Part 71.1. The Class E airspace designations listed in this document will be published subsequently in that Order.

The Rule

This action amends Title 14 Code of Federal Regulations (14 CFR) Part 71 by establishing Class E airspace extending upward from 700 feet above the surface within a 9-mile radius of Metropolitan Oakland International Airport, Oakland, CA, with a segment extending from the 9-mile radius to 26 miles northwest of the airport. This controlled airspace accommodates IFR aircraft executing RNAV (GPS) standard instrument approach procedures at the airport. This action also modifies Class E airspace designated as an extension to Class C airspace by removing the navigation aids from the regulatory text and replacing them with airport reference points. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace and modifies controlled airspace at Metropolitan Oakland International Airport, Oakland, CA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR Part 71.1 of the Federal Aviation Administration Order 7400.9X, Airspace Designations and Reporting Points, dated August 7, 2013, and effective September 15, 2013 is amended as follows:

Paragraph 6003 Class E Airspace Designated as an Extension to Class C Surface Areas.

* * * * *

AWP CA E3 Oakland, CA [Modified]

Metropolitan Oakland International Airport, CA

(Lat. 37°43′17″ N., long. 122°13′15″ W.)

That airspace extending upward from the surface within 2.7 miles each side of the Metropolitan Oakland International Airport 110° bearing extending from the 5-mile radius of the airport to 9 miles east of the airport. This Class E airspace area is effective during the specific dates and times established in advance by a Notice to Airmen. The effective date and time will thereafter be continuously published in the Airport/Facility Directory.

Paragraph 6005 Class E Airspace Areas Extending Upward From 700 Feet or More Above the Surface of the Earth

* * * * *

AWP CA E5 Oakland, CA [New]

Metropolitan Oakland International Airport, CA

(Lat. 37°43′17″ N., long. 122°13′15″ W.)

That airspace extending upward from 700 feet above the surface within a 9-mile radius of the Metropolitan Oakland International Airport and within 4 miles each side of the airport 305° bearing extending from the 9-mile radius of the airport to 26 miles northwest of the airport.

Issued in Seattle, Washington on August 29, 2013.
Christopher Ramirez,
Acting Manager, Operations Support Group, Western Service Center.

[FR Doc. 2013-22819 Filed 9-19-13; 8:45 am]

BILLING CODE 4910-13-P